DEPARTMENT OF TRANSPORTATION

Pipeline and Hazardous Materials Safety Administration

[Docket No. PHMSA-2016-0136]

Pipeline Safety: Meeting of the Gas Pipeline Safety Advisory Committee

AGENCY: Pipeline and Hazardous Materials Safety Administration (PHMSA); DOT.

ACTION: Notice of advisory committee meeting.

SUMMARY: This notice announces a virtual public meeting of the Technical Pipeline Safety Standards Committee, also known as the Gas Pipeline Advisory Committee (GPAC), to discuss the Gas Pipeline Regulatory Reform notice of proposed rulemaking (NPRM).

DATES: PHMSA will hold a virtual public meeting on October 7, 2020. GPAC will meet from 10:30 a.m. to 6:00 p.m. ET on Wednesday, October 7, 2020. Members of the public who want to attend are asked to register no later than September 30, 2020. PHMSA requests that individuals who require disability accommodations notify Tewabe Asebe by September 30, 2020.

ADDRESSES: The meeting will be held virtually. The agenda and any additional information, including information on how to participate in the meeting, will be published on the meeting website at https://primis.phmsa.dot.gov/meetings/MtgHome.mtg?mtg=151. Presentations will be available on the meeting website and on the E-Gov website, https://www.regulations.gov/, under docket number PHMSA-2016-0136 no later than 30 days following the meetings. You may submit comments, identified by Docket No. PHMSA-2016-0136, by any of the following methods:

• E-Gov Web: https://www.regulations.gov. This site allows the public to enter comments on any Federal Register notice issued by any agency. Follow the online instructions for submitting comments.

• Mail: Docket Management Facility, U.S. Department of Transportation, 1200 New Jersey Avenue SE, West Building: Room W12-140, Washington, DC 20590-0001.

• Hand Delivery: U.S. Department of Transportation, 1200 New Jersey Avenue SE, West Building: Room W12-140, Washington, DC 20590-0001, between 9:00 a.m. and 5:00 p.m. ET Monday through Friday, except federal holidays.

• Instructions: Identify Docket No. PHMSA-2016-0136 at the beginning of your comments. If you submit your comments by mail, submit two copies. Internet users may submit comments at https://www.regulations.gov. If you would like confirmation that PHMSA received your comments, please include a self-addressed stamped postcard that is labeled “Comments on PHMSA-2016-0136.” The docket clerk will date stamp the postcard prior to returning it to you via the U.S. mail.

• Note: All comments received will be posted without edits to https://www.regulations.gov, including any personal information provided. Please see the Privacy Act heading for more information. Anyone can use the site to search all comments by the name of the submitting individual or, if the comment was submitted on behalf of an association, business, labor union, etc., the name of the signing individual. Therefore, please review the complete U.S. Department of Transportation Privacy Act Statement in the Federal Register (65 FR 19477) or the Privacy Notice at https://www.regulations.gov before submitting comments.

• Privacy Act Statement: In accordance with 5 U.S.C. 553(c), DOT solicits comments from the public to better inform its rulemaking process. The DOT posts these comments without edit, including any personal information the commenter provides, to https://www.regulations.gov, as described in the system of records notice (DOT/ALL-14 FDMS), which can be reviewed at https://www.dot.gov/privacy.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 CFR 190.343, you may ask PHMSA to provide confidential treatment to information you give to the agency by taking the following steps: (1) Mark each page of the original document submission containing CBI as “Confidential;” (2) send PHMSA a copy of the original document with the CBI deleted along with the original, unaltered document; and (3) explain why the information you are submitting is CBI. Unless you are notified otherwise, PHMSA will treat such marked submissions as confidential under the Freedom of Information Act and they will not be placed in the public docket of this notice. Submissions containing CBI should be sent to Tewabe Asebe, DOT, PHMSA, 1200 New Jersey Avenue SE, PHP-30, Washington, DC 20590-0001. Any commentary PHMSA receives that is not specifically designated as CBI will be placed in the public docket.

• Docket: For access to the docket or to read background documents or comments, go to https://www.regulations.gov. Follow the online instructions for accessing the dockets. Alternatively, this information is available by visiting the DOT at 1200 New Jersey Avenue SE, West Building: Room W12-140, Washington, DC 20590-0001, between 9:00 a.m. and 5:00 p.m. ET Monday through Friday, except federal holidays.

FOR FURTHER INFORMATION CONTACT: Tewabe Asebe, Transportation Specialist, Office of Pipeline Safety, by phone at 202-366-5523 or by email at tewabe.asebe@dot.gov.

SUPPLEMENTARY INFORMATION:

I. Meeting Agenda

GPAC will meet to discuss the Gas Pipeline Regulatory Reform NPRM that PHMSA published in the Federal Register on June 9, 2020; (85 FR 35240). GPAC will review the NPRM and its associated regulatory analysis. PHMSA will post additional details on the meeting website in advance of the meeting.

In the NPRM, PHMSA proposes revisions to the federal pipeline safety regulations to ease regulatory burdens on the construction, maintenance, and operation of gas transmission, distribution, and gathering pipeline systems. The proposed amendments include petitions for rulemaking, regulatory relief actions identified by internal agency review, and public comments submitted in response to two DOT infrastructure and regulatory reform notices: Transportation Infrastructure: Notice of Review of Policy, Guidance, and Regulation (82 FR 26734; June 8, 2017) and Notification of Regulatory Review (82 FR 45750; October 2, 2017). The NPRM proposes to provide flexibility in the inspection requirements for farm taps, allow remote monitoring for rectifier stations, adjust the monetary damage threshold for reporting incidents for inflation, revise the inspection interval for monitoring atmospheric corrosion on gas distribution service pipelines, and repeal distribution integrity management program requirements for master meter operators and submission requirements for mechanical fitting failure reports. The NPRM also proposes to update the design standard for polyethylene pipe, raise the maximum diameter limit for polyethylene pipe, revise test requirements for pressure vessels, update welder requalification requirements to provide scheduling flexibility, and extend the allowance for pretested short segments of pipe and fabricated units to pipelines operating at a hoop stress of less than 30 percent of the specified minimum yield strength and more than 100 pounds per square inch.

II. Background

GPAC is a statutorily mandated advisory committee that provides PHMSA and the Secretary of Transportation with recommendations on proposed standards for the transportation of natural gas or hazardous liquids by pipeline. GPAC was established in accordance with 49 U.S.C. 60115 and the Federal Advisory Committee Act, as amended (5 U.S.C. App. 2), to review PHMSA's regulatory initiatives and determine their technical feasibility, reasonableness, cost-effectiveness, and practicability. GPAC consists of 15 members, with membership evenly divided among federal and state governments, regulated industry, and the general public.

III. Public Participation

The meeting will be open to the public. Members of the public who wish to attend must register on the meeting website and include their names and affiliations. PHMSA will provide members of the public with opportunities to make a statement during the course of these meetings. Additionally, PHMSA will record the meetings and post a record to the public docket. PHMSA is committed to providing all participants with equal access to these meetings. If you need disability accommodations, please contact Tewabe Asebe by phone at 202-366-5523 or by email at tewabe.asebe@dot.gov.

PHMSA is not always able to publish a notice in the Federal Register quickly enough to provide timely notice regarding last minute issues that impact a previously announced advisory committee meeting. Therefore, individuals should check the meeting website or contact Tewabe Asebe regarding any possible changes.

Issued in Washington, DC, on September 1, 2020, under authority delegated in 49 CFR 1.97.
Alan K. Mayberry,
Associate Administrator for Pipeline Safety.

[FR Doc. 2020-19801 Filed 9-4-20; 8:45 am]

BILLING CODE 4910-60-P